DEPARTMENT OF ENERGY

Federal Energy Regulatory Commission

[Project No. 12626-006]

Northern Illinois Hydropower, LLC; Notice of Intent To Prepare an Environmental Assessment

On August 28, 2025, Northern Illinois Hydropower, LLC (licensee) filed an application for a non-capacity amendment for the Dresden Island Project No. 12626. The project is located on the Illinois River in Grundy County, Illinois. The project occupies federal lands managed by the U.S. Army Corps of Engineers (Corps).

The licensee is proposing to redesign the unconstructed project that would be located at the Corps' existing Dresden Island Lock and Dam. The licensee proposes to change the licensed facilities to reduce the size of the powerhouse and tailrace, reduce the generation capacity, reroute the transmission lines to avoid spanning the length of the Corps' dam facility, revise the project boundary, and replace the Kaplan turbines with smaller submersible propeller turbines. As the submersible propeller turbines have smaller generation capacity, an increase in the number of turbines from four to ten would result in a reduction to the overall power generation capacity from 10.96 MW to 9.56 MW. A Notice of Application Accepted for Filing and Soliciting Comments, Motions to Intervene, and Protest was issued on October 14, 2025. No comments were filed pursuant to the notice.

This notice identifies Commission staff's intention to prepare an environmental assessment (EA) under the National Environmental Policy Act (42 U.S.C. 4321 et seq.) for the project.¹ Commission staff plans to issue an EA by July 14, 2026. Revisions to the schedule may be made as appropriate. The EA will be issued for a 30-day comment period. All comments filed on the EA will be reviewed by staff and considered in the Commission's final decision on the proceeding.

¹ The unique identification number for documents relating to this environmental review is EAXX-019-20-000-1769508109.

For public inquiries and assistance with making filings such as interventions, comments, or requests for rehearing, contact the Office of Public Participation at (202) 502-6595 or OPP@ferc.gov.

Any questions regarding this notice may be directed to Rebecca Martin at 202-502-6012 or Rebecca.martin@ferc.gov.

(Authority: 18 CFR 2.1)

Dated: February 4, 2026.
Debbie-Anne A. Reese,
Secretary.

[FR Doc. 2026-02516 Filed 2-6-26; 8:45 am]

BILLING CODE 6717-01-P